DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Hearing of the Subcommittee on Standards.

Dates and Times: Tuesday, August 25, 2020: 9:00 a.m.-5:30 p.m. EDT; Wednesday, August 26, 2020: 8:30 a.m.-3:00 p.m. EDT.

Place: U.S. Department of Health and Human Services, Hubert H. Humphrey Building, 200 Independence Avenue SW, Rm. 505A, Washington, DC 20201.

Status: Open.

Purpose: At the August 25-26, 2020, hearing, the National Committee on Vital and Health Statistics (NCVHS), Subcommittee on Standards, will address a request received on February 24, 2020, from the Council for Affordable Quality Healthcare (CAQH), Committee on Operating Rules for Information Exchange (CORE) Board, to consider three new operating rules for federal adoption: (1) CAQH CORE Prior Authorization Data Content Rule; (2) CAQH CORE Prior Authorization Infrastructure Rule; and (3) CAQH CORE Connectivity Rule. At this meeting, the Subcommittee will hear from invited industry stakeholders and review written testimony received in advance from interested individuals and organizations.

The Health Insurance Portability and Accountability Act (HIPAA) gives statutory authority to the Secretary of Health & Human Services (HHS) to promulgate regulations adopting standards, code sets, and identifiers to support the exchange of electronic health information between covered entities, including standards for retail pharmacy and medical transactions. Standards setting organizations or the Designated Standards Maintenance Organization (DSMO) bring forward new versions of the adopted standards to NCVHS after completion of a consensus-based review and evaluation process. Section 1104 of the Patient Protection and Affordable Care of 2010 (ACA) amended HIPAA and introduced the requirement to adopt operating rules to support the business function of each adopted standard transaction. To date, the Department of Health and Human Services (HHS) has adopted operating rules for eligibility, claim status, electronic remittance advice, and electronic funds transfer. HHS has not yet adopted operating rules for health care claims, enrollment/disenrollment, premium payments, prior authorization for referrals, or claim attachments.

The Data Content and Infrastructure Rules pertain specifically to the prior authorization (278) transaction. The Connectivity Rule is to be more broadly applied to all HIPAA transactions and is designed to facilitate interoperability. CAQH CORE developed these rules for the purpose of improving utilization of administrative transactions, enhancing efficiency and lowering the cost of information exchange in healthcare.

The Committee's intent is to solicit information from industry about the costs and benefits of the operating rule for connectivity and operating rules for the prior authorization transaction. The Committee requests comments from the public to inform the Committee's deliberations about the benefits of adopting these rules in advance of this meeting and will consider them along with the oral input of subject matter experts at the hearing. The Committee has developed specific questions to ensure comments address key issues under consideration by the Committee. Those questions are available at: https://ncvhs.hhs.gov/August-2020-Standards-Subcommittee-Hearing-Public-Comment-Questions. The letter from April Todd, Senior Vice President, CAQH CORE & Explorations, et al., to William W. Stead, Chair, National Committee on Vital and Health Statistics, requesting the changes and a summary of the operating rules are available for review at https://ncvhs.hhs.gov/wp-content/uploads/2020/04/CAQH-CORE-NCVHS-Review-Request-2.24.20_FINAL-508.pdf. Please submit comments specific to the Phase IV and V operating rules responding to the questions provided at the above link to NCVHSmail@cdc.gov by close of business Friday, July 24, 2020.

At the hearing, the Subcommittee on Standards will lead a discussion of the request received from CAQH CORE, taking into consideration input from stakeholders regarding costs and benefits of implementing each of these operating rules.

There will be a public comment period on both meeting days. The meeting location, times and topics are subject to change. Please refer to the NCVHS website for any updates.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website ncvhs.hhs.gov. Further information, including an agenda and instructions to access the broadcast of the meeting, will be posted at this site as soon as the information is available.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2020-13500 Filed 6-22-20; 8:45 am]

BILLING CODE 4150-05-P